DEPARTMENT OF DEFENSE

Department of the Air Force

Intent To Grant an Exclusive Patent License

ACTION: Notice.

SUMMARY: Pursuant to the provisions of 37 CFR 404.4, which implements Public Law 96517, as amended, the Department of the Air Force announces its intention to grant to Tribologix, Inc., an Ohio corporation, having a place of business at 7086 Corporate Way, Suite 101, Dayton, OH 45459, an exclusive or partially exclusive license in any right, title and interest, the Air Force has in the following U.S. provisional patent application:

U.S. Provisional Patent Application no. 61/123,566, entitled Object with Durably Bonded Lubricant Layer or Other Functional Coating, Jeffrey S. Zabinski, inventor, filed on 1 April 2008, in the USPTO.

FOR FURTHER INFORMATION: Any objection to the grant of the above license must be submitted in writing within 15 days of the date of publication of this Notice in the Federal Register, to be considered.

Written response should be sent to: The Air Force Material Command Law Office, AFMC LO/JAZ, 2240 B. Street, Bldg. 11, Wright-Patterson AFB 45433-7109, attention, Thomas C. Stover. Telephone (937) 255-2838; fax (937) 255-3733.

Bao-Anh Trinh,
Air Force Federal Register Liaison Officer.

[FR Doc. E8-26348 Filed 11-4-08; 8:45 am]

BILLING CODE 5001-05-P